DEPARTMENT OF ENERGY

National Nuclear Security Administration

Notice of Intent To Prepare an Environmental Impact Statement for the Continued Operation of the Department of Energy/National Nuclear Security Administration Nevada Test Site and Off-Site Locations in the State of Nevada

AGENCY: U.S. Department of Energy's National Nuclear Security Administration.

ACTION: Notice of intent to prepare an environmental impact statement and conduct public scoping meetings.

SUMMARY: Pursuant to the National Environmental Policy Act (NEPA) of 1969, as amended (42 U.S.C. 4321 et seq.), the Council on Environmental Quality (CEQ) and the U.S. Department of Energy (DOE) regulations implementing NEPA (40 CFR Parts 1500-1508 and 10 CFR Part 1021, respectively), the National Nuclear Security Administration (NNSA), a semi-autonomous agency within DOE, announces its intention to prepare a site-wide environmental impact statement (SWEIS) (DOE/EIS-0426) for the continued operation of DOE/NNSA activities at the Nevada Test Site (NTS) and certain off-site locations (the Remote Sensing Laboratory at Nellis Air Force Base, Las Vegas, Nevada, the DOE/NNSA campus in North Las Vegas, and the Nevada Test and Training Range (NTTR) including activities at the Tonopah Test Range (TTR)) in the State of Nevada. The purpose of this notice is to invite individuals, organizations, and government agencies and entities to participate in developing the scope of the SWEIS.

The new SWEIS will consider a No Action Alternative, which is to continue current operations through implementation of the 1996 Record of Decision (ROD) (61 FR 65551; 12/13/96), and subsequent decisions. Three action alternatives proposed for consideration in the SWEIS would be compared to the No Action Alternative. The three action alternatives would differ by either their type or level of on-going operations and may include proposals for new operations or the reduction or elimination of certain operations.

DATES: NNSA invites comments on the scope of this SWEIS. The public scoping period starts with the publication of this notice in the Federal Register and will continue through October 16, 2009. NNSA will consider all comments defining the scope of the SWEIS received or postmarked by this date. Comments received or postmarked after this date will be considered to the extent practicable. NNSA will conduct public scoping meetings in Las Vegas, Tonopah and Pahrump, Nevada and St. George, Utah scheduled as follows:

• Thursday, September 10, 2009—2-4 p.m. and 6-8 p.m.

Frank H. Rogers Science & Technology Building, Desert Research Institute, 755 East Flamingo Road, Las Vegas, NV.

• Monday, September 14, 2009—5:30-7:30 p.m.

Bob Ruud Community Center, 150 North Highway 160, Pahrump, NV.

• Wednesday, September 16, 2009—5:30-7:30 p.m.

Tonopah Convention Center, 301 Brougher Ave., Tonopah, NV.

• Friday, September 18, 2009—5:30-7:30 p.m.

Holiday Inn Conference Center, 850 South Bluff Street, St. George, Utah.

These scoping meetings will provide the public with an opportunity to present comments, ask questions, and discuss issues with NNSA officials regarding the SWEIS. Preparation of the SWEIS will require participation of other Federal agencies. As bordering land managers, the USAF and BLM have an inherent interest in activities at the Nevada Test Site (NTS). The DHS and DTRA are tenant organizations with ongoing and future operations at the NTS: Therefore requests for cooperating agency participation will be extended to the DOE, Department of Defense, U.S. Air Force (USAF) and the Defense Threat Reduction Agency (DTRA), the Department of Homeland Security (DHS), and the Department of the Interior, Bureau of Land Management (BLM.)

ADDRESSES: To submit comments on the scope of the SWEIS, questions about the document or scoping meetings, or to be included on the document distribution list, please contact: Linda M. Cohn, NNSA Nevada Site Office, SWEIS Document Manager, P.O. Box 98518, Las Vegas, Nevada 89193-8518; telephone (702) 295-0077; fax (702) 295-5300; or e-mail address: nepa@nv.doe.gov.

FOR FURTHER INFORMATION CONTACT: For general information about the DOE NEPA process, please contact: Carol M. Borgstrom, Director, Office of NEPA Policy and Compliance (GC-20), U.S. Department of Energy, 1000 Independence Avenue, SW., Washington, DC 20585; e-mail: askNEPA@hq.doe.gov; telephone: 202-586-4600, or leave a message at 1-800-472-2756; or fax: 202-586-7031. Please note that U.S. Postal Service deliveries to the Washington, DC office may be delayed by security screening. Additional information regarding DOE NEPA activities is available on the Internet through the NEPA Web site at http://www.gc.energy.gov/nepa.

SUPPLEMENTARY INFORMATION:

Background

The NTS occupies about 1,375 square miles (3,561 square kilometers) in southern Nevada, and is surrounded on three sides by the U.S. Air Force Nevada Test and Training Range (NTTR) (formerly the Nellis Air Force Range) and the Desert National Wildlife Refuge. The fourth boundary is shared with the Bureau of Land Management. The Nevada Site Office (NSO) operations are managed and performed for DOE/NNSA under contract by a management and operating contractor (currently National Security Technologies, LLC) which teams with personnel from Lawrence Livermore National Laboratory, Los Alamos National Laboratory, and Sandia National Laboratories as well as other governmental entities to perform NTS mission-related activities. NTS is a multi-disciplinary, multi-purpose facility primarily engaged in work that supports national security, homeland security initiatives, waste management, environmental restoration, and defense and non-defense research and development programs (R&D) for DOE/NNSA and other government entities. Historically, the primary DOE/NNSA mission work conducted at NTS was nuclear weapons testing. Since the moratorium on nuclear testing began in October 1992, NTS has been maintained in a state of readiness to conduct underground nuclear tests, if so directed by the President. It also conducts high-hazard experiments involving nuclear material and high explosives (HE); provides the capability to process and dispose of a damaged nuclear weapon or improvised nuclear device; and conducts non-nuclear experiments, hydrodynamic testing, and HE testing. Nuclear stockpile stewardship activities at the NTS include conducting dynamic plutonium experiments that provide technical information to maintain the safety and reliability of the U.S. nuclear weapons stockpile, and conducting research and training on nuclear safeguards, criticality safety, and emergency response. Special Nuclear Materials are also stored at the NTS. Also, in accordance with the amended 1996 NTS EIS (DOE/EIS-0243) ROD, NNSA continues to receive low-level and mixed low-level radioactive waste for disposal at NTS. Sandia National Laboratories, a DOE/NNSA contractor, operates the Tonopah Test Range (TTR) near Tonopah, Nevada for flight testing of gravity weapons (including R&D and testing of nuclear weapons components and delivery systems) in support of DOE/NNSA mission requirements.

The 1996 NTS EIS examined existing and potential impacts to the environment from ongoing and anticipated future DOE/NNSA operations conducted over approximately a 10-year period of time at NTS and at off-site locations in the State of Nevada, such as portions of the NTTR including the TTR. NSO's remediation efforts have been completed at Project Shoal and the Central Nevada Test Area.

The four alternatives analyzed in the 1996 NTS EIS were: (1) The No Action Alternative, to continue to operate at the level maintained in the previous 5 years; (2) Discontinue Operations; (3) Expanded Use, and (4) Alternative Use of Withdrawn Lands. DOE's ROD implemented Alternative 3, Expanded Use, plus the public educational activities of Alternative 4, Alternative Use of Withdrawn Lands. This ROD also selected the continuation of low-level and mixed low-level waste management activities as described in the No Action Alternative until decisions on the Waste Management Programmatic Environmental Impact Statement for Managing Treatment, Storage, and Disposal of Radioactive and Hazardous Waste (Waste Management PEIS) (DOE/EIS-0200) could be made. DOE issued its decisions on the Waste Management PEIS in a February 2000 ROD that included an amendment to the 1996 NTS EIS ROD. That February 2000 ROD announced DOE's decision to implement low-level and mixed low-level waste management activities in accordance with the Expanded Use Alternative of the 1996 NTS EIS.

In July 2002, DOE/NNSA completed a 5-year review of the 1996 NTS EIS with the preparation of a Supplement Analysis (SA) (DOE/EIS-0243-SA-01), pursuant to DOE's regulatory requirement to evaluate site-wide NEPA documents at least every 5 years (10 CFR 1021.330) to determine the adequacy of an existing EIS. Based on the 2002 Supplement Analysis for the Final Environmental Impact Statement for the Nevada Test Site and Off-Site Locations in the State of Nevada (DOE/EIS-0243-SA-01), DOE/NNSA determined that there were no substantial changes to the actions or impacts evaluated in the NTS EIS, and there were no significant new circumstances or information relevant to environmental concerns. Thus, the existing NTS EIS was adequate and neither a supplemental EIS or a new EIS was required.

In 2003, NNSA prepared a Supplement Analysis entitled Supplement Analysis for the Final Environmental Impact Statement for the Nevada Test Site and Off-Site Locations in the State of Nevada to Address the Increase in Activities Associated with the National Center for Combating Terrorism & Counterterrorism Training & Related Activities (DOE-EIS-0243-SA-02) to determine whether an anticipated increase in national security projects after the terrorist attacks of September 11, 2001, required further NEPA analysis. This analysis covered military training/exercises, and testing, evaluation, and development of technology for multiple Federal government agencies. Based upon this review, DOE/NNSA determined that the proposed increase in activities would not result in substantial changes to the NTS EIS or the ROD, and there were no significant new circumstances or information relevant to environmental concerns. Thus, neither a supplemental EIS nor a new EIS was required.

More recently, in 2007, DOE/NNSA initiated its second comprehensive 5-year review of the 1996 NTS EIS and prepared a SA entitled Draft Supplement Analysis for the Final Environmental Impact Statement for the Nevada Test Site and Off-Site Locations in the State of Nevada (DOE-EIS-0243-SA-03) which evaluated whether the 1996 NTS EIS continued to remain adequate for ongoing and reasonably foreseeable activities. This document was issued for public review and comment in April 2008. Based upon consideration of comments received on this draft SA regarding potential changes to the NTS program work scope, the DOE/NNSA decided to prepare a new SWEIS for the Continued Operation of the NTS and Off-Site Locations in the State of Nevada for the 10-year period commencing 2010.

Purpose and Need

The purpose and need for agency action is to continue the operation of NTS to provide support for DOE's core missions as directed by the Congress and the President. NTS has a long history of supporting national security objectives through the conduct of underground nuclear tests and other nuclear and non-nuclear activities. Since October 1992, there has been a moratorium on underground nuclear testing. Thus, the present mission of the DOE at NTS is to maintain a readiness to conduct tests. In addition, NTS supports DOE national security related research, development, and testing programs, and DOE's waste management/disposal activities. NTS also provides opportunities for various environmental research projects.

Alternatives for the SWEIS

In accordance with applicable DOE and CEQ NEPA regulations, the No Action Alternative will be analyzed in the SWEIS and will form the baseline for the action alternatives analyzed in the document. In this case, the No Action Alternative will be the continued implementation of the 1996 NTS EIS ROD, and the amendment to the ROD for the NTS (65 FR 10061 at 10065) at DOE/NNSA sites in Nevada over the next 10 years. Additionally, the No Action Alternative will also include the implementation of other decisions supported by separate NEPA analyses completed since the issuance of the final 1996 NTS EIS, including: the Final Environmental Impact Statement for the Proposed Relocation of Technical Area 18 Capabilities and Materials at Los Alamos National Laboratory (DOE/EIS-319) and ROD (67 FR 79906); and the Final Complex Transformation Supplemental Programmatic Environmental Impact Statement (DOE/EIS-0235-S4) and its RODs (73 FR 77644 and 73 FR 77656) and the Waste Management PEIS and ROD (65 FR 10061). The No Action Alternative will also include actions analyzed in eight environmental assessments and their associated Findings of No Significant Impacts, as well as actions categorically excluded from the need for preparation of either an EA or an EIS. These various documents are identified in the 2008 draft SA. Copies of these documents can be reviewed at the DOE/NNSA Public Reading Rooms at 755 E. Flamingo, Las Vegas, Nevada, and 100 North Stewart Street, Carson City, Nevada, and public libraries in St. George, Utah; and Tonopah and Pahrump, Nevada; and on the internet at: http://www.gc.energy.gov/nepa.

Three action alternatives will be considered in the SWEIS: Expanded Operations, Reduced Operations, and Renewable Energy Operations. All three of these alternatives will be compared to the No Action Alternative level of operations. The Expanded Operations Alternative will consider a greater proportion of reasonably foreseeable new work from other Federal organizations as identified by cooperating agencies. This work will relate to nonproliferation and counterterrorism, experiments, research, development and testing. Such expansion could include developing test beds for concept testing of sensors, mitigation strategies and weapons effectiveness. The Reduced Operations alternative will consider an overall reduction in the level of operations and closure of specific buildings and structures. The Renewable Energy Operations Alternative will consider renewable energy R&D and the potential deployment of those technologies on the NTS. Any new facilities/activities, regardless of which alternative they are associated with, will be included in the analysis if they are reasonably foreseeable (i.e., proposed within the next 10 years).

This SWEIS will analyze potential impacts resulting from reasonably foreseeable operations and compare these impacts to those projected in the No-Action Alternative. The SWEIS will analyze projected impacts anticipated from operating the NTS and certain off-site locations in the State of Nevada at the current level with some modified work now being proposed at certain facilities, such as the Radiological and Nuclear Test Evaluation Center and the Non-Proliferation Test and Evaluation Center. Examples of newly proposed actions at NTS include development of enhanced national security programs to include increased homeland security activities in sensor development and testing, and chemical and biological simulant releases, as well as stockpile stewardship activities.

Direct and indirect, as well as unavoidable and irreversible and irretrievable impacts to the environment of the NTS and off-site locations in the State of Nevada will be identified and analyzed in the SWEIS. In addition, updated modeling and analysis will be conducted of potential migration of contaminants in the groundwater from historic nuclear testing on the NTS. Where appropriate, mitigation strategies will also be analyzed in the SWEIS. Further, an updated evaluation of NTS operational and transportation accident analyses, and a new assessment of cumulative impacts of DOE/NNSA operations in Nevada will also be included. DOE/NNSA plans to prepare the SWEIS as an unclassified document with a classified appendix. The classified information will not be available for public review; however, it will be considered in the decision-making process of the SWEIS. DOE/NNSA intends to re-evaluate the range of reasonable alternatives following public scoping.

Preliminary Identification of Environmental Issues

DOE/NNSA proposes to address the issues listed below when considering the potential impacts of each alternative. This list is presented to facilitate public comment during the scoping period and will be revisited as DOE/NNSA considers all scoping comments. It is not intended to be comprehensive, nor to imply any predetermination of impacts.

• Potential effects on the public health from exposure to hazardous materials under routine and credible accident scenarios;

• Impacts on surface and groundwater, and on water use and quality;

• Impacts on air quality and noise;

• Impacts on plants and animals, and their habitats, including species that are Federal- or state-listed as threatened or endangered, or of special concern;

• Impacts on geology and soil;

• Impacts on cultural resources such as Native American sites, historic mining and ranching, and Cold War structures;

• Socioeconomic impacts on potentially affected communities and disproportionately high and adverse impacts to minority and low-income populations;

• Potential impacts on land use.

• Pollution prevention and waste management practices and activities;

• Unavoidable adverse impacts and irreversible and irretrievable commitments of resources;

• Potential cumulative environmental effects of past, present, and reasonably foreseeable future actions;

• Potential impacts of intentional destructive acts, including sabotage and terrorism.

SWEIS Process and Invitation To Comment

The SWEIS scoping process provides an opportunity for the public to assist the DOE/NNSA in determining issues. Four public scoping meetings will be held as noted under DATES in this Notice. The purpose of scoping meetings is to provide attendees an opportunity to present comments, ask questions, and discuss concerns regarding the SWEIS with DOE/NNSA officials. Comments and recommendations can also be mailed to Linda M. Cohn as noted in this Notice under ADDRESSES. The SWEIS scoping meetings will use a format to facilitate dialogue between DOE/NNSA and the public and will provide individuals the opportunity to give written or oral statements. DOE/NNSA welcomes specific comments or suggestions on the SWEIS process. The SWEIS will describe the potential environmental impacts of each alternative by using available data where possible and obtaining additional data where necessary. Copies of written comments and transcripts of oral comments provided to DOE/NNSA during the scoping period will be available at the DOE Public Reading Room at 755 E. Flamingo, Las Vegas, Nevada, and public libraries in St. George, Utah; Tonopah and Pahrump, Nevada; and on the Internet at http://www.nv.doe.gov/library/publications/environmental.

After the close of the public scoping period, DOE/NNSA will begin developing the draft SWEIS. DOE/NNSA expects to issue the draft SWEIS for public review in mid-2010. Public comments on the draft SWEIS will be received for at least 60 days following publication of the Environmental Protection Agency's Notice of Availability in the Federal Register. The Notice of Availability, along with notices placed in local newspapers, will provide dates and locations for public hearings on the draft SWEIS and the deadline for comments on the draft document. Persons who submit comments with a mailing address during the scoping process will receive a copy of the draft SWEIS. Other persons who would like to receive a copy of the document for review when it is issued should notify Linda M. Cohn at one of the addresses provided previously. DOE/NNSA will include all comments received on the draft SWEIS, and responses to those comments in the final SWEIS. Issuance of the final SWEIS is currently scheduled for mid-2011.

Issued in Washington, DC, this 21st day of July 2009.
Thomas P. D'Agostino,
Administrator, National Nuclear Security Administration.

[FR Doc. E9-17751 Filed 7-23-09; 8:45 am]

BILLING CODE 6450-01-P